DEPARTMENT OF THE INTERIOR

National Park Service

United States Park Police; 60-Day Notice of Intention To Request Clearance of Collection of Information; Opportunity for Public Comment

AGENCY: United States Park Police, National Park Service, Interior.

ACTION: Notice and request for comments.

SUMMARY: Under the provisions of the Paperwork Reduction Act of 1995 and 5 CFR Part 1320, Reporting and Record Keeping Requirements, the United States Park Police (USPP) invites public comments on an extension of a currently approved collection of information of Office of Management and Budget (OMB) #1024-0245.

DATES: Public comments on this Information Collection Request (ICR) will be accepted on or before July 16, 2010.

ADDRESSES: Send comments to: Lt. Steve L. Booker, Human Resources Unit, United States Park Police, 1100 Ohio Drive, SW., Washington, DC 20020; or via fax at 202-619-7388 or via e-mail at steve_booker@nps.gov. All responses to the Notice will be summarized and included in the request for the Office of Management and Budget (OMB) approval. All comments will become a matter of public record.

To Request a Draft of Proposed Collection of Information Contact: Lt. Steve L. Booker, Human Resources Unit, United States Park Police, 1100 Ohio Drive, SW., Washington, DC 20020; or via fax at 202-619-7388 or via e-mail at steve_booker@nps.gov. You are entitled to a copy of the entire ICR package free of charge once the package is submitted to OMB for review.

SUPPLEMENTARY INFORMATION:

Title: United States Park Police Personal History Statement.

Form(s): None.

OMB Control Number: 1024-0245.

Expiration Date: 10/30/10.

Type of Request: Extension of a currently approved collection of information.

Description of Need: The information provided in the personal history statement will be used in the investigation into backgrounds to assist in determining applicants' qualifications for the position of police officer. The authority to collect information is derived from one or more of the following: Title 5, Code of Federal Regulations, section 5.2; Title 4, United States Code, sections 1303, 1304, 1304, and 3301; sections 8(b), 8(c), and 9(c) of Executive Order 10450; Title 42, United States Code, section 2455; and Title 22, United States Code, sections 1434 and 2585. The information supplied will be used principally as a basis for an investigation to determine fitness for employment purposes, including a security clearance and an evaluation of qualifications, suitability, and loyalty to the United States. As part of such an investigation, the Standard Form 87 (Fingerprint Chart) will be sent to the Federal Bureau of Investigation and may be retained there. This information and information developed through investigation may be furnished to designated officers and employees of agencies and departments of the Federal Government for employment purposes, including security clearance determination, an access determination, an evaluation of qualifications, suitability, and loyalty to the U.S. Government, and a determination regarding qualifications or suitability for performing a contractual service to the Federal Government. The information may also be disclosed to any agency of the Federal Government having a working relationship with regard to Office of Personnel Management activities, to the intelligence agencies of the Federal Government, or to others having reasons as published in the Federal Register.

Your response can be voluntary.

Automated Data Collection: Yes or No? It is anticipated that this personal history statement will be made available electronically during recruitment and vacancy announcement openings.

Description of Respondents: Candidates for employment as a police officer.

Estimated Average Number of Responses: 2,000 per year.

Frequency of Response: 1 per respondent.

Estimated Average Time Burden per Respondent: 1.5 hours.

Estimated Total Annual Reporting Burden: 3,000 hours.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: May 11, 2010.
Cartina A. Miller,
Information Collection Clearance Officer, National Park Service.

[FR Doc. 2010-11636 Filed 5-14-10; 8:45 am]

BILLING CODE 4312-52-P